DEPARTMENT OF DEFENSE

Department of the Navy

Notice of Intent To Terminate Nonexclusive Patent License; Micro Photonix Integration Corporation

AGENCY: Department of the Navy, DOD.

ACTION: Notice.

SUMMARY: The Department of the Navy hereby gives notice of it's intent to terminate the nonexclusive license granted to Micro Photonix Integration Corporation on June 6, 2000, to practice the Government-owned inventions described in U.S. Patent numbers 4, 763,272; 5,121,453, and 5,652,819. The Licensee is in default of the license agreement.

DATE: Anyone wishing to object to the termination of this license has thirty (30) days from the date of this notice to file written objections along with supporting evidence, if any.

ADDRESS: Written objections are to be filed with the Office of Patent Counsel, Space and Naval Warfare Systems Center, Code 20012, 53510 Silvergate Ave., Room 103, San Diego, CA 92152-5765.

FOR FURTHER INFORMATION CONTACT: Mr. James A. Ward, Space and Naval Warfare Systems Center, Code 20012, 53510 Silvergate Ave., Room 103, San Diego, CA 92152-5765, telephone (619) 553-3823.

(Authority: 35 U.S.C. 207, 37 CFR Part 404.10)

Dated: October 23, 2002.
R.E. Vincent II,
Lieutenant Commander, Judge Advocate General's Corps, , U.S. Navy, Federal Register Liaison Officer.

[FR Doc. 02-28045 Filed 11-4-02; 8:45 am]

BILLING CODE 3810-FF-P